DEPARTMENT OF THE INTERIOR

National Park Service

[NPS-WASO-NAGPRA-13290;PPWOCRADN0-PCU00RP14.R50000]

Notice of Intent To Repatriate Cultural Items: Monterey Museum of Art, Monterey, CA

AGENCY: National Park Service, Interior.

ACTION: Notice.

SUMMARY: The Monterey Museum of Art, in consultation with the appropriate Indian tribes or Native Hawaiian organizations, has determined that the cultural items listed in this notice meet the definition of objects of cultural patrimony. Lineal descendants or representatives of any Indian tribe or Native Hawaiian organization not identified in this notice that wish to claim these cultural items should submit a written request to the Monterey Museum of Art. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Monterey Museum of Art at the address in this notice by August 29, 2013.

ADDRESSES: John Rexine, Registrar, Monterey Museum of Art, 559 Pacific St., Monterey, CA 93940, telephone (831) 372-5477, email jrexine@montereyart.org.

SUPPLEMENTARY INFORMATION: Notice is here given in accordance with the Native American Graves Protection and Repatriation Act (NAGPRA), 25 U.S.C. 3005, of the intent to repatriate cultural items under the control of the Monterey Museum of Art that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In approximately the 1940s or 1950s, 193 cultural items of ivory, bone, wood, and stone were removed from the Iyatet site, in Nome County, AK, by anthropologist Mr. J.L. Giddings and local guide Mr. Louis Nakarak. The objects were subsequently purchased by Mr. William Holman of Pacific Grove, CA. Mr. Holman then donated the objects to the Monterey Museum of Art on November 20, 1978. The 193 objects of cultural patrimony are 42 harpoon or projectile points, 38 pendants or beads, 3 fire-starters, 4 hand tools, 6 fishing weights, 37 carvings, 1 scraper, 3 dogsled runners, 1 club, 4 needles or awls, and 54 other objects made of ivory, bone, wood and stone.

In the 1978 Deed of Gift to the Monterey Museum of Art, Mr. Holman notes that the objects were excavated from a site 125 miles east of Nome, AK, and were said to date to 6,000 years or more before present. The location and site of Iyatet matches this description, and the Native Village of Shaktoolik in Nome County, AK, is the nearest community that claims cultural affiliation with the site and with the objects of cultural patrimony removed from the site. The Native Village of Shaktoolik has made a claim to these objects and, through consultation, has provided information in support of that claim.

Determinations Made by the Monterey Museum of Art

Officials of the Monterey Museum of Art have determined that:

• Pursuant to 25 U.S.C. 3001(3)(D), the 193 cultural items described above have ongoing historical, traditional, or cultural importance central to the Native American group or culture itself, rather than property owned by an individual.

• Pursuant to 25 U.S.C. 3001(2), there is a relationship of shared group identity that can be reasonably traced between the objects of cultural patrimony and the Native Village of Shaktoolik.

Additional Requestors and Disposition

Lineal descendants or representatives of any Indian tribe or Native Hawaiian organization not identified in this notice that wish to claim these cultural items should submit a written request with information in support of the claim to John Rexine, Registrar, Monterey Museum of Art, 559 Pacific St., Monterey, CA 93940, telephone (831) 372-5477, email jrexine@montereyart.org by August 29, 2013. After that date, if no additional claimants have come forward, transfer of control of the objects of cultural patrimony to the Native Village of Shaktoolik may proceed.

The Monterey Museum of Art is responsible for notifying the Native Village of Shaktoolik that this notice has been published.

Dated: June 11, 2013.
Sherry Hutt,
Manager, National NAGPRA Program.

[FR Doc. 2013-18277 Filed 7-29-13; 8:45 am]

BILLING CODE 4312-50-P